DEPARTMENT OF COMMERCE

National Oceanic and Atmospheric Administration

Proposed Information Collection; Comment Request; Knowledge, Attitudes and Perceptions of the Management Strategies and Regulations of the Grays Reef National Marine Sanctuary

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 12, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Dr. Vernon R. (Bob) Leeworthy, (240) 533-0647 or Bob.Leeworthy@noaa.gov.

SUPPLEMENTARY INFORMATION:

I. Abstract

This request is for a reinstatement, with changes, of a previous information collection.

NOAA, through its National Ocean Service, Office of National Marine Sanctuaries, is replicating a study done in 2010-2011 on users and non-users of Gray's Reef National Marine Sanctuary (GRNMS) off the coast of Georgia. The study will support analysis of its current regulations to support management plan revision, which could include changes in regulations. The study will collect information to assess recreational uses of GRNMS and surrounding areas off the coast of Georgia, demographic profiles, and attitudes on GRNMS current regulations, especially the research only area, which displaced recreational fishing. In addition, user perceptions of the conditions of GRNMS natural resources/environment will be obtained.

II. Method of Collection

A mail survey will be used as was done in 2010-2011 using self-addressed, postage paid mailback questionnaires.

III. Data

OMB Control Number: 0648-XXXX.

Form Number: None.

Type of Review: Regular (reinstatement with changes).

Affected Public: Individuals or households.

Estimated Number of Respondents: 300.

Estimated Time per Response: 30 minutes per individual.

Estimated Total Annual Burden Hours: 150.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sarah Brabson,
NOAA PRA Clearance Officer.

[FR Doc. 2017-07282 Filed 4-11-17; 8:45 am]

BILLING CODE 3510-NK-P